DEPARTMENT OF DEFENSE

Office of the Secretary

[Docket ID: DoD-2020-OS-0066]

Proposed Collection; Comment Request

AGENCY: Federal Voting Assistance Program, Defense Department (DoD).

ACTION: Information collection notice.

SUMMARY: In compliance with the Paperwork Reduction Act of 1995, the Federal Voting Assistance Program announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 11, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please contact the Office of Information Management, DoD, at whs.mc-alex.esd.mbx.dd-dod-information-collections@mail.mil, ATTN Ms. Angela James, or call 571-372-7574.

SUPPLEMENTARY INFORMATION: Title; Associated Form; and Omb Number: Election Administration and Voting Survey (EAVS) Section B Data Standard (ESB Data Standard); OMB Control Number 0704-FVAP.

Needs and Uses: The President of the United States designated the Secretary of Defense to administer the Uniformed and Overseas Citizens Absentee Voting Act (UOCAVA) As Modified by the Military and Overseas Voting Empowerment Act, 52 United States Code (U.S.C.) 20301. UOCAVA is the principal enabling statute that grants authority for the Department of Defense (DoD) to facilitate absentee voting amongst members of the Uniformed Services and Merchant Marine, their eligible family members, and all citizens residing outside the United States who are absent from the United States. The 1988 Executive Order (E.O.) 12642 names the Secretary of Defense as the “Presidential designee” for administering UOCAVA. In the Department of Defense Instruction (DoDI) 1000.04, Federal Voting Assistance Program (FVAP), the Secretary of Defense delegated UOCAVA-related responsibilities first to the Under Secretary of Defense for Personnel and Readiness (USD[P&R]), and then, in turn, to the FVAP Director. The DoDI 1000.04 also updates the policy and responsibilities for FVAP under E.O. 12642.

The Military and Overseas Voter Empowerment (MOVE) Act of 2009 enacted key reforms to the absentee voting process for military and overseas voters. These reforms include the transmission of balloting materials no later than 45 days prior to each federal election. Additionally, each state must offer military and overseas voters an opportunity to receive balloting materials electronically. Sections 52 U.S.C. 20301 (b [6,11]) and 20308 (b [1]) require FVAP to provide a report to the President and the Congress on program effectiveness and conduct a statistical analysis on UOCAVA voter participation. These sections also state that FVAP shall work with the United States Election Assistance Commission (EAC) and the chief State election official of each State to develop standards for States to report data on the number of absentee ballots transmitted and received, and that FVAP is to store the data collected. In order to evaluate the MOVE Act's reforms and perform the actions prescribed in 52 U.S.C. 20301 (b [6,11]) and 20308 (b [1]), FVAP requires transaction-level data that can associate specific UOCAVA ballot business process transactions with the ultimate outcome on whether the ballot was received and accepted for counting in each Federal election.

Affected Public: Individuals or Households.

Annual Burden Hours: 69.

Number of Respondents: 827.

Responses per Respondent: 1.

Annual Responses: 827.

Average Burden per Response: 5 minutes.

Frequency: Semi-Annually.

To help better assist UOCAVA voters, FVAP and the Council of State Governments worked to refine a transformative new data schema called the Election Administration and Voting Survey (EAVS) Section B (ESB) Data Standard. The ESB Data Standard builds on other data standardization efforts and allows FVAP to analyze the three key parts of the voting process: (1) Ballot request; (2) ballot transmission; and (3) ballot return.

The ESB Data Standard collects transactional data from the absentee voter's experience in the election process that, when aggregated, align to the post-election survey questions administered by the EAC's Administration and Voting Survey (EAVS) data specifically focused on administration of UOCAVA. To that end, under FVAP's guidance, states now have the option of making transactional-level data on UOCAVA ballots available through the ESB Data Standard, and the Council of State Governments is assisting with securing standardized feeds of these transactional data from members of the Overseas Voting Initiative.

This standard captures data from state databases, a process that has the advantage of more accurately assessing when ballot transactions occurred and whether ballot requests and returns were returned. The EAVS survey, as administered by the EAC, aggregates totals at the state and jurisdiction levels on ballot receipt and transmission time, but this blurs the effects experienced by voters into a single statewide estimate. Further, these data do not isolate how much timing and transmission type can influence a successful voter transaction in the process or contrast the impacts of these across two differing populations, the overseas citizen versus the active duty military voter. The ESB Data Standard is the first approach of its kind to analyze administrative data at the transactional level and attempt to identify drivers for UOCAVA voter success.

FVAP intends to leverage the momentum created from the ESB Data Standard Analysis to secure greater levels of implementation across jurisdictions with major populations of UOCAVA voters. Doing so will drastically reduce the burden on jurisdictions from the EAVS Section B data collection to only collecting high level metrics as points of validation for the ESB Data Standard.

Dated: July 8, 2020.
Aaron T. Siegel,
Alternate OSD Federal Register Liaison Officer, Department of Defense.

[FR Doc. 2020-15082 Filed 7-10-20; 8:45 am]

BILLING CODE 5001-06-P